DEPARTMENT OF COMMERCE

International Trade Administration

[A-821-802]

Uranium from the Russian Federation: Rescission of Administrative Review of the Agreement Suspending the Antidumping Duty Investigation

AGENCY: Import Administration, International Trade Administration, Department of Commerce.

ACTION: Notice of rescission of administrative review.

SUMMARY: In response to a request from the Ministry of the Russian Federation for Atomic Energy (“MINATOM”), the Department of Commerce (“the Department”) initiated an administrative review of the suspension agreement on uranium from the Russian Federation on November 21, 2001 (66 FR 58433). On July 17, 2002, the Department received a letter from MINATOM withdrawing its request for the administrative review. This review has now been rescinded as a result of the withdrawal of the request for review by MINATOM, the only party which requested the review.

EFFECTIVE DATE: August 14, 2002.

FOR FURTHER INFORMATION CONTACT: James Doyle or Catherine Bertrand, Import Administration, International Trade Administration, U.S. Department of Commerce, 14th Street and Constitution Avenue, NW., Washington DC 20230; telephone: (202) 482-0159 or (202) 482-3207, respectively.

SUPPLEMENTARY INFORMATION:

The Applicable Statute

Unless otherwise indicated, all citations to the Tariff Act of 1930, as amended (“the Act”), are to the provisions effective January 1, 1995, the effective date of the amendments made to the Act by the Uruguay Round Agreements Act (“URAA”). In addition, unless otherwise indicated, all citations to the Department's regulations are to 19 CFR part 351 (2001).

Background

On October 31, 2001, the Department received a timely request from MINATOM to conduct an administrative review of the Suspension Agreement (“Agreement”) on uranium from the Russian Federation. On November 21, 2001, the Department initiated a review of the Agreement. See Notice of Initiation of Antidumping and Countervailing Duty Administrative Reviews, 66 FR 58433 (November 21, 2001).

On April 22, 2002, the Department extended the time limits for the preliminary results of review by 120 days. See Notice of Extension of Time Limits of the Preliminary Results of Administrative Review of Agreement Suspending the Antidumping Investigation of Uranium from the Russian Federation, as Amended, 67 FR 19554 (April 22, 2002). On July 17, 2002, MINATOM withdrew its request for the review.

Rescission of Review

Pursuant to 19 CFR 351.213(d)(1) of the Department's regulations, the Department will allow a party that requests an administrative review to withdraw such request within 90 days of the date of publication of the notice of initiation of the administrative review. Furthermore, the Department may extend this time limit if the Secretary decides it is reasonable to do so, pursuant to 19 CFR 351.213(d)(1). Given that we have received no submissions opposing MINATOM's request for withdrawal of the administrative review and the fact that MINATOM was the only party to request a review, we find it reasonable to extend the 90 days time period for filing a withdrawal request. Therefore, we are rescinding this review of the agreement suspending the antidumping duty investigation on uranium from the Russian Federation.

This notice is issued and published in accordance with section 351.213(d)(4) of the Department's regulations.

Dated: August 7, 2002.
Faryar Shirzad,
Assistant Secretary for Import Administration.

[FR Doc. 02-20646 Filed 8-13-02; 8:45 am]

BILLING CODE 3510-DS-P